DEPARTMENT OF HOMELAND SECURITY

Coast Guard

[Docket No. USCG-2010-0164]

National Boating Safety Advisory Committee; January 2023 Virtual Meeting

AGENCY: U.S. Coast Guard, Department of Homeland Security.

ACTION: Notice of Federal Advisory Committee virtual meeting.

SUMMARY: The National Boating Safety Advisory Committee (Committee) and its Subcommittees will meet virtually to discuss matters relating to national boating safety. The virtual meeting will be open to the public.

DATES:

Meeting: The Committee and its Subcommittees will meet on Wednesday, January 18, 2023, from noon until 5 p.m. Eastern Standard Time (EST). This virtual meeting may adjourn early if the Committee has completed its business.

Comments and supporting documentation: To ensure your comments are received by Committee members before the virtual meeting, submit your written comments no later than January 11, 2023.

ADDRESSES: To join the virtual meeting or to request special accommodations, contact the individual listed in the FOR FURTHER INFORMATION CONTACT section no later than 1 p.m. EST on January 16, 2023. The number of virtual lines are limited and will be available on a first-come, first-served basis.

Pre-registration information: Pre-registration is required for attending virtual meeting. You must request attendance by contacting the individual listed in the FOR FURTHER INFORMATION CONTACT section of this notice. You will receive a response with attendance instructions.

The National Boating Safety Advisory Committee is committed to ensuring all participants have equal access regardless of disability status. If you require reasonable accommodation due to a disability to fully participate, please email Mr. Jeff Decker at NBSAC@uscg.mil or call 202-372-1507 as soon as possible.

Instructions: You are free to submit comments at any time, including orally at the meeting as time permits, but if you want Committee members to review your comments before the meeting, please submit your comments no later than January 11, 2023. We are particularly interested in comments on the issues in the “Agenda” section below. We encourage you to submit comments through the Federal eRulemaking Portal at https://www.regulations.gov. If your material cannot be submitted using https://www.regulations.gov, contact the individual in the FOR FURTHER INFORMATION CONTACT section of this document for alternate instructions. You must include the docket number [USCG-2010-0164]. Comments received will be posted without alteration at http://www.regulations.gov, including any personal information provided. You may wish to review the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Committee, 2703 Martin Luther King Jr. Ave. SE, Stop 7509, Washington, DC 20593-7509, telephone 202-372-1507 or via email at NBSAC@uscg.mil.

SUPPLEMENTARY INFORMATION: Notice of this meeting is given pursuant the Federal Advisory Committee Act, (5 U.S.C. Appendix). The Committee was established on December 4, 2018, by section 601 of the Frank LoBiondo Coast Guard Authorization Act of 2018, Public Law 115-282, 132 Stat. 4192, and is codified in 46 U.S.C. 15105. The Committee operates under the provisions of the Federal Advisory Committee Act (5 U.S.C. Appendix), and 46 U.S.C. 15109. The National Boating Safety Advisory Committee provides advice and recommendations to the Secretary of Homeland Security via the Commandant of the United States Coast Guard on matters relating to national boating safety. This notice is issued under the authority of 46 U.S.C. 15109(a).

Agenda

The agenda for the National Boating Safety Advisory Committee meeting is as follows:

(1) Call to order.

(2) Roll call of Committee members and determination of quorum.

(3) Opening remarks.

(4) Conflict of interest statement.

(5) Receipt and discussion of the following reports from the Office of Auxiliary and Boating Safety:

(a) Division Chief report.

(b) Right Whale Speed Rule.

(c) Presentation and discussion on the 2022-2027 National Recreational Boating Strategic Plan.

(d) Human Factors.

(6) Report of the Boats and Associated Equipment Subcommittee on Task 2022-01.

(7) Report of the Strategic Planning Subcommittee on Task 2022-02.

(8) Report of the Prevention Through People Subcommittee on Task 2022-03.

(9) Discussion of Subcommittee recommendations.

(10) Committee discussion on boating safety related topics.

(11) Public comment period.

(12) Closing remarks.

(13) Adjournment of meeting.

A copy of all meeting documentation will be available at https://homeport.uscg.mil/Lists/Content/DispForm.aspx?ID=75937&Source=/Lists/Content/DispForm.aspx?ID=75937, no later than January 11, 2023. Alternatively, you may contact Mr. Jeff Decker as noted in the FOR FURTHER INFORMATION section above.

There will be a public comment period from approximately 3:00 p.m. until 3:15 p.m. (EST). Speakers are requested to limit their comments to 3 minutes. Please note that the public comment period may end before the period allotted, following the last call for comments.

Please contact the individual listed in the FOR FURTHER INFORMATION CONTACT section above to register as a speaker.

Dated: December 27, 2022.
Amy M. Beach,
Captain, U.S. Coast Guard, Director of Inspections and Compliance.

[FR Doc. 2022-28500 Filed 12-30-22; 8:45 am]

BILLING CODE 9110-04-P